ENVIRONMENTAL PROTECTION AGENCY

[FRL-9823-3]

Proposed Listing of Additional Waters To Be Included on Indiana's 2010 List of Impaired Waters Under Section 303(d) of the Clean Water Act

AGENCY: Environmental Protection Agency (EPA).

ACTION: Notice and request for comments.

SUMMARY: This notice announces the availability of EPA's proposed decision identifying water quality limited segments and associated pollutants in Indiana to be listed pursuant to the Clean Water Act Section 303(d)(2), and requests public comment. Section 303(d)(2) requires that states submit and EPA approve or disapprove lists of waters for which existing technology-based pollution controls are not stringent enough to attain or maintain state water quality standards and for which total maximum daily loads (TMDLs) must be prepared.

On May 8, 2013, EPA partially approved and partially disapproved Indiana's 2010 303(d) list submittal. Specifically, EPA approved Indiana's listing of certain water quality limited segments and associated pollutants (Table 1 in Appendix A1 of EPA's decision document for Indiana's 2010 303(d) list). EPA disapproved Indiana's decision not to list water quality limited segments for certain metal pollutants.

After conducting a complete review, EPA identified the waterbodies and associated metal pollutants (e.g. aluminum, iron, copper, lead, and zinc) to be added to Indiana's 2010 303(d) list (Table 12 in Appendix A1 of EPA's decision document). EPA is providing the public the opportunity to review its proposed decision to add waters and pollutants to Indiana's 2010 Clean Water Act Section 303(d) list. EPA will consider public comments in reaching its final decision on the additional waterbodies and pollutants identified for inclusion on Indiana's final 2010 303(d) list.

DATES: Comments on this document must be received in writing by July 15, 2013.

ADDRESSES: Written comments on today's notice may be submitted to Tinka Hyde, Director, Water Division, Attn: Indiana's 303(d) list, U.S. Environmental Protection Agency, 77 West Jackson Boulevard, Chicago, Illinois 60604. As an alternative, EPA will accept comments electronically. Comments should be sent to the following email address: rivera-carrero.vilma@epa.gov.

FOR FURTHER INFORMATION CONTACT: Vilma Rivera-Carrero, Watersheds and Wetlands Branch, at the EPA address noted above or by telephone at (312) 886-7795.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water quality limited segments still requiring TMDLs every two years. The lists of waters still needing TMDLs must also include priority rankings and must identify the waters targeted for TMDL development during the next two years (40 CFR 130.7).

Consistent with EPA's regulations, Indiana submitted to EPA its Section 303(d) list of impaired waters on November 30, 2010. On May 8, 2013, EPA approved Indiana's listing of certain water quality limited segments and associated pollutants. EPA also disapproved Indiana's decision to not include 125 water quality limited segments and associated metal pollutants on its Section 303(d) list, based on a change in the State's listing methodology. Indiana's new listing methodology included a revised approach for determining aquatic life use support with regards to metal toxicants. This revised assessment approach excludes the use of total recoverable metals data and the use of derived criteria (Tier I criteria and Tier II values). As a result of EPA's disapproval decision, EPA is proposing to place certain water bodies with associated impairments on Indiana's 2010 Section 303(d) list. EPA believes that these waters and associated pollutants, based on its assessment determinations, meet the federal requirements for listing under Section 303(d). For additional information, refer to Items 3 and 4 in Subsection B, and Subsection K under Section II of EPA's decision document for Indiana's 2010 303(d) list. EPA's decision document is available at http://www.epa.gov/region5/water/impairedwatersin/index.html.

EPA is soliciting public comment on its identification of 125 waters and 139 associated metal impairments set out for inclusion on Indiana's 2010 Section 303(d) list (Table 12 of Appendix A1 to EPA's decision document). These proposed additions include 66 new impairments to 59 waterbody assessment units (AUs) previously listed for other impairments, and 66 waterbody AUs with 73 impairments newly listed. After considering public comments and making any appropriate revisions, EPA will transmit a final determination and any final listings to the State. Any new listings will then be part of Indiana's 2010 Section 303(d) list and will be carried forward onto future lists, including Indiana's proposed 2012 Section 303(d) list.

Dated: May 23, 2013.
Tinka G. Hyde,
Director, Water Division, EPA Region 5.

[FR Doc. 2013-14192 Filed 6-13-13; 8:45 am]

BILLING CODE 6560-50-P